DEPARTMENT OF DEFENSE

Department of the Army; Corps of Engineers

Notice of Public Scoping Meetings for the Missouri River Authorized Purposes Study, Missouri River Basin, United States

AGENCY: Department of the Army, U.S. Army Corps of Engineers, DoD.

ACTION: Notice of Public Scoping Meetings.

SUMMARY: In the April 16, 2010 Federal Register (75 FR 19948), the U.S. Army Corps of Engineers (USACE) Omaha and Kansas City Districts announced in a Notice of Intent (NOI) that it will prepare a comprehensive feasibility-type report with an integrated Environmental Impact Statement (EIS) for the Missouri River Authorized Purposes Study (MRAPS). The NOI did not include specific details of the public scoping meetings. This notice announces the locations, dates, times, and format of the public scoping meetings.

Public Law 111-8 authorizes the USACE to review the original project purposes within the Missouri River Basin based on the Flood Control Act of 1944, as amended, and other subsequent relevant legislation and judicial rulings to determine if changes to the authorized project purposes and existing federal water resource infrastructure may be warranted. The authorized Missouri River project purposes are: Flood control, navigation, irrigation, power, water supply, water quality, recreation, and fish and wildlife.

ADDRESSES: Written comments should be sent to: Missouri River Authorized Purposes Study; Department of the Army; Corps of Engineers, Omaha District; CENWO-PM-AA; 1616 Capitol Avenue; Omaha, NE 68102-4901. Comments can also be e-mailed to: mraps@usace.army.mil. Comments on the scope of the Missouri River Authorized Purposes Study must be postmarked, e-mailed, or otherwise submitted no later than September 20th, 2010.

FOR FURTHER INFORMATION CONTACT: For further information and/or questions about the MRAPS, please contact Mr. Mark Harberg, Project Manager, by telephone: (402) 995-2554, by mail: 1616 Capitol Avenue, Omaha, NE 68102-4901, or by e-mail: mark.c.harberg@usace.army.mil, or Lamar Mckissack, Project Manager, by telephone (816) 389-3115, by mail: 601 East 12th Street, Kansas City, MO 64106, or by e-mail: grady.l.mckissack@usace.army.mil. For inquiries from the media, please contact the USACE Omaha District Public Affairs Officer (PAO), Mr. Paul Johnston by telephone: (402) 995-2416, by mail: 1616 Capitol Avenue, Omaha, NE 68102, or by e-mail: paul.t.johnston@usace.army.mil.

SUPPLEMENTARY INFORMATION: 1. Background. The 1944 Flood Control Act, as amended, and subsequent legislation have directed the USACE to allocate the River's resources among the authorized Missouri River project purposes; which are: Flood control, navigation, irrigation, power, water supply, water quality, recreation, and fish and wildlife.

Section 108 of the Energy and Water Development Section of the FY09 Omnibus Appropriations Act provides the USACE authorization to study the Missouri River projects located within the Missouri River Basin to review the original authorized project purposes to determine if changes to the project purposes and existing Federal water resource infrastructure may be warranted. The study authorized by Section 108 will be referred to as the Missouri River Authorized Purposes Study (MRAPS). The MRAPS is a broad-based multi-purpose study that is anticipated to culminate in a comprehensive feasibility-type report with an integrated EIS. The MRAPS will be conducted in accordance with NEPA and with the “Principles and Guidelines for Water and Related Land Resource Implementation Studies” (Water Resource Council, 1983).

2. Scoping. The Omaha and Kansas City Districts of the U.S. Army Corps of Engineers invites all interested entities including Tribal governments, Federal agencies, state and local governments, and the general public to comment on the scope of the Missouri River Authorized Purposes Study (MRAPS). The public scoping period began with the publication of the NOI in the Federal Register (75 FR 19948) on April 16, 2010 and will continue until September 20, 2010.

All public scoping meetings will use an open house format. Informational materials about the Missouri River Authorized Purposes Study and the eight authorized purposes will be located throughout the room for participant perusal throughout the evening. Corps representatives will be available to meet one-on-one with meeting participants. Written comments will be collected on comment cards and computer terminals, and a court reporter will be at the meeting for those who wish to make formal verbal comments. All forms of comment will be weighted equally. Input from the scoping meetings, along with comments received by other means (regular mail or e-mail), will be used to refine the scope of issues to be addressed by the Missouri River Authorized Purposes Study.

As part of the scoping process, The Corps has scheduled public meetings at the following locations:

1. Tuesday, May 25: Mobridge, South Dakota, Scherr Howe Arena, 212 N. Main St., Mobridge, SD 57601.

2. Wednesday, May 26: Pierre, South Dakota, AmericInn & Suites Conference Center, 312 Island Dr., Fort Pierre, SD 57532.

3. Thursday, May 27: Rapid City, South Dakota, Best Western Ramkota Rapid City Hotel and Conference Center, 2111 N. LaCrosse St., Rapid City, SD 57701.

4. Tuesday, June 1: Jefferson City, Missouri, Capitol Plaza Hotel & Conv Ctr, 415 W. McCarty St., Jefferson City, MO 65101.

5. Wednesday, June 2: Kansas City, Missouri, Kansas City Marriott Country Club Plaza, 4445 Main St., Kansas City, MO 64111.

6. Thursday, June 3: St. Joseph, Missouri, Ramada St. Joseph, 4016 Frederick Blvd., St. Joseph, MO 64506.

7. Tuesday, June 15: Fort Peck, Montana, Fort Peck Interpretive Center & Museum, Lower Yellowstone Rd., Fort Peck, MT 59223.

8. Wednesday, June 16: Williston, North Dakota, Williston Event Center, 3712 4th Ave W, Williston, ND 58801.

9. Thursday, June 17: Bismarck, North Dakota, Best Western Doublewood Inn, 1400 E. Interchange Ave., Bismarck, ND 58501.

10. Friday, June 18: Fargo, North Dakota, Holiday Inn of Fargo, 3803 13th Ave. South, Fargo, ND 58103.

11. Tuesday, June 22: Council Bluffs, Iowa, Mid-America Center, One Arena Way, Council Bluffs, IA 51501.

12. Wednesday, June 23: Nebraska City, Nebraska, Fraternal Order of Eagles, 600 1st Corso, Nebraska City, NE 68410.

13. Thursday, June 24: Lincoln, Nebraska, Holiday Inn Hotel Lincoln-Downtown, 141 N. 9th St., Lincoln, NE 68508.

14. Wednesday, July 7: New Orleans, Louisiana, Pontchartrain Center, 4545 Williams Blvd., Kenner, LA 70065.

15. Thursday, July 8: Memphis, Tennessee, Memphis Marriott East, 2625 Thousand Oaks Blvd., Memphis, TN 38118.

16. Friday, July 9: St. Louis, Missouri, Doubletree Hotel St. Louis at Westport, 1973 Craigshire, St. Louis, MO 63146.

17. Tuesday, July 13: Topeka, Kansas, Holiday Inn Holidome (Topeka West), 605 SW Fairlawn Rd., Topeka, KS 66606.

18. Wednesday, July 14: Salina, Kansas, Ramada Conference Center, 1616 W. Crawford, Salina, KS 67401.

19. Thursday, July 15: Manhattan, Kansas, Holiday Inn at the Campus, 1641 Anderson Ave., Manhattan, KS 66502.

20. Tuesday, July 27: Rock Island, Illinois, Holiday Inn Hotel & Conference Center, 226 17th St., Rock Island, IL 61201.

21. Wednesday, July 28: Des Moines, Iowa, Holiday Inn Hotel Des Moines-Airport/Conference Center, 6111 Fleur Dr., Des Moines, IA 50321.

22. Thursday, July 29: Sioux City, Iowa, Stoney Creek Inn & Conference Center, 300 3rd St., Sioux City, IA 51101.

23. Friday, July 30: Yankton, South Dakota, Riverfront Event Center, 121 W. 3rd St. (3rd and Walnut), Yankton, SD 57078.

24. Tuesday, Aug. 3: Cheyenne, Wyoming, Holiday Inn Cheyenne I-80, 204 West Fox Farm Rd., Cheyenne, WY 82007.

25. Wednesday, Aug. 4: North Platte, Nebraska, Sandhills Convention Center at Quality Inn & Suites, 2102 South Jeffers, North Platte, NE 69101.

26. Thursday, Aug. 5: Denver, Colorado, Doubletree Hotel Denver-Southeast, 13696 East Iliff Place, Aurora, CO 80014.

27. Tuesday, Aug. 17: Helena, Montana, Red Lion Colonial Hotel-Helena, 2301 Colonial Dr., Helena, MT 59601.

28. Wednesday, Aug. 18: Billings, Montana, Holiday Inn Hotel The Grand Montana-Billings, 5500 Midland Rd., Billings, MT 59101.

29. Thursday, Aug. 19: Thermopolis, Wyoming, Days Inn Thermopolis Hot Springs Convention Center, 115 E. Park St., Thermopolis, WY 82443.

30. Friday, Aug. 20: Casper, Wyoming, Best Western Ramkota Hotel & Conference Center, 800 N. Poplar, Casper, WY 82601.

In addition to the above scoping meetings, tribal focused scoping meetings will be held. Although tribal issues will be the emphasis of these meetings, the general public is welcome to attend. All tribal focused scoping meetings will be held from 11 a.m. to 1 p.m. The USACE has scheduled tribal focused scoping meetings at the following locations:

1. Wednesday, May 26: Pierre, South Dakota, Wakpa Sica Historical Society, 709 Ft. Chouteau Road, Fort Pierre, SD 57532.

2. Thursday, May 27: Rapid City, South Dakota, South Dakota School of Mines and Technology, Bump Lounge, 501 East Saint Street, Rapid City, SD 57701.

3. Tuesday, June 15: Fort Peck, Montana, Fort Peck State Fish Hatchery, PO Box 167, Fort Peck, MT 59223.

4. Wednesday, June 16: Williston, North Dakota, Williston College Alumni Center, 1410 University Avenue, Williston, ND 58801.

5. Thursday, June 17: Bismarck, North Dakota, United Tribes Technical College, Wellness Center, 3315 University Drive, Bismarck, ND 58504.

6. Friday, June 18: Fargo, North Dakota, North Dakota State University Alumni Center, 1241 North, University Drive, Box 5144, Fargo, ND 58104.

7. Tuesday, July 13: Lawrence, Kansas, Haskell Indian National University, 155 East Indian Avenue, Lawrence, KS 66046.

8. Friday, July 30: Vermillion, South Dakota, University of South Dakota Native American Cultural Center, 414 E Clark, Vermillion, SD 57069.

9. Tuesday, August 17: Helena, Montana, Montana's Museum, PO Box 201201, 225 North Roberts, Helena, MT 59620-1201.

10. Wednesday, August 18: Billings, Montana State University Billings, 1500 University Drive, Billings, MT 57101.

11. Thursday, August 19: Central Wyoming College, 2660 Peck Avenue, Riverton, WY 82501.

If you require assistance under the Americans for Disabilities Act please send your name and phone via e-mail to Lois@djcase.com at least three days prior to the meeting you plan to attend. Persons who use a telecommunications service for the deaf (TDD) may call the Federal Information Relay Service (FIRS) at (800) 877-8339, 24 hours a day, seven days a week to relay this same information. For more information about the Missouri River Authorized Purposes Study, please visit www.mraps.org.

Dated: May 14, 2010.
Kayla Eckert Uptmor,
Chief Planning Branch, Omaha District.

[FR Doc. 2010-12223 Filed 5-20-10; 8:45 am]

BILLING CODE 3720-58-P